DEPARTMENT OF THE INTERIOR

National Park Service

[NPS-WASO-NRNHL-11111; 2200-3200-665]

National Register of Historic Places; Notification of Pending Nominations and Related Actions

Nominations for the following properties being considered for listing or related actions in the National Register were received by the National Park Service before August 11, 2012. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by September 24, 2012. Before including your address, phone number, email address, or other personal identifying information in your comment, you should be aware that your entire comment—including your personal identifying information—may be made publicly available at any time. While you can ask us in your comment to withhold your personal identifying information from public review, we cannot guarantee that we will be able to do so.

Dated: August 14, 2012.
J. Paul Loether,
Chief, National Register of Historic Places/National Historic Landmarks Program.

ARKANSAS

Saline County

Hyten, Charles “Bullet” Dean, House, 211 Main St., Benton, 12000804

Searcy County

Greenhaw, Mary, Memorial Methodist Episcopal Church South, 115 E. Nome St., Marshall, 12000805

Sebastian County

Belle Grove Historic District, Roughly bounded by N. 4th, N. 9th, N. B, & N. H Sts., Fort Smith, 12000806

Washington County

Walker Family Plot, 514 E. Rock St., Fayetteville, 12000807

CALIFORNIA

Contra Costa County

CA-CCO-548/H, Address Restricted, Restricted, 12000808

Los Angeles County

Boulevard Heights Historic District, 658-899 S. Bronson Ave., Los Angeles, 12000809

First Congregational Church of Long Beach, 241 Cedar Ave., Long Beach, 12000810

Yamashiro Historic District, 1999 N. Sycamore St., Los Angeles, 12000811

Sacramento County

Maydestone Apartments, 1001 15th St., Sacramento, 12000812

San Bernardino County

Ontario and San Antonio Heights Waiting Station, 1251 W. 24th St., Upland, 12000813

IOWA

Johnson County

Ranshaw, Samuel and Emma A., House, 515 W. Penn St., North Liberty, 12000814

Wapello County

Hotel Ottumwa, 107 E. 2nd St., Ottumwa, 12000815

KANSAS

Pratt County

Norden Bombsight Storage Vaults (World War II-Era Aviation-Related Facilities of Kansas) 305 Flint Rd., Pratt, 12000816

MARYLAND

Baltimore Independent city

Old Hamilton Library, 3006 Hamilton Ave., Baltimore (Independent City), 12000817

MASSACHUSETTS

Essex County

Pinkham, Lydia, House, 285 Western Ave., Lynn, 12000818 Norfolk County

North Bellingham Cemetery and Oak Hill Cemetery, Hartford Ave., Bellingham, 12000819

MISSOURI

Crawford County

Brickey, Peter, Farmstead (Cherokee Trail of Tears MPS), Address Restricted, Steelville, 12000820

NEW HAMPSHIRE

Grafton County

Perry, Norman and Marion, House, Address Restricted, Campton, 12000821

PENNSYLVANIA

Elk County

Irwintown Site, Address Restricted, Hallton, 12000822

SOUTH CAROLINA

Richland County

Powell, J. Davis, House, 1410 Shirley St., Columbia, 12000823

VIRGINIA

Fauquier County

Galemont, 5071 Galemont Ln., Broad Run, 12000824

A request for removal has been made for the following resources:

ARKANSAS

Faulkner County

Webb, Joe and Nina, House, 2945 Prince, Conway, 05001171

Jackson County

Rock Island Depot—Weldon, AR 17, Weldon, 92000621

Jefferson County

Williams Building, 418-420 N University, Pine Bluff, 10000833

Sevier County

Locke—Nall House, Off US 59/71 N of Lockesburg, Lockesburg, 89000340

[FR Doc. 2012-22096 Filed 9-6-12; 8:45 am]

BILLING CODE 4312-51-P